DEPARTMENT OF EDUCATION

National Institute on Disability and Rehabilitation Research; Grant Program

AGENCY: Office of Special Education and Rehabilitative Services, Department of Education.

ACTION: Small Business Innovation Research (SBIR) Grants Program Standing Review Panels; recruiting peer reviewers.

SUMMARY: The National Institute on Disability and Rehabilitation Research (NIDRR) is recruiting peer reviewers to serve on standing review panels for its Small Business Innovation Research (SBIR) Grants Program.

DATES: We must receive your nomination on or before March 11, 2005.

FOR FURTHER INFORMATION CONTACT: Carol Cohen, U.S. Department of Education, 400 Maryland Avenue, SW., room 6035, Potomac Center Plaza, Washington, DC 20202-2700. Telephone: (202) 245-7303 or by email: carol.cohen@ed.gov.

If you use a telecommunications device for the deaf (TDD), you may call the Federal Relay Service (FRS) at 1-800-877-8339.

Individuals with disabilities may obtain this document in an alternative format (e.g., Braille, large print, audiotape, or computer diskette) by contacting the person listed under FOR FURTHER INFORMATION CONTACT.

SUPPLEMENTARY INFORMATION:

Background

The purpose of the SBIR program is to stimulate technological innovation in the private sector, strengthen the role of small business in meeting Federal research or research and development needs, increase the commercial application of Department of Education (ED) supported research results, and improve the return on investment from Federally-funded research for economic and social benefits to the Nation. This competitive grants program provides the incentive for small businesses to profit from the commercialization of technology, products, and services developed through research and development activities funded under the NIDRR sponsored SBIR program. The SBIR program has three-phases: Phases I—startup, Phase II—evaluate commercialization potential, and Phase III—move from the laboratory into the marketplace. However, NIDRR only supports Phase I and Phase II SBIR projects. Phase I grants allow entities to determine, insofar as possible, the scientific or technical merit and feasibility of ideas submitted under the SBIR program. Applications for Phase I focus on research that will contribute to proving the scientific or technical feasibility of the approach, concept or product identified in the proposal, which is a prerequisite for continued ED support in Phase II. The purpose of Phase II is to expand on the results of and to further pursue the development of Phase I projects and to begin to explore the potential for commercialization.

What Are Standing Review Panels?

Phase I and II SBIR grant award decisions are made with the input of standing review panels. Standing review panels are groups of individuals with experience or expertise in specific scientific areas or areas of research. The standing review panels mechanism enhances consistency during a given review cycle and across review cycles. Panels evaluate the scientific and technical merit of grant applications. Individuals are assigned to panels based on their expertise and the priority area(s) assigned to review panels.

What Are the Qualifications of a Standing Review Panel Member?

NIDRR obtains the services of the best-qualified reviewers for standing review panels, including those with disabilities and those from diverse backgrounds. NIDRR is interested in obtaining the services of individuals with training, education, expertise and/or knowledge in a range of areas supported by the 1999-2003 NIDRR long-range research plan (Plan) (e.g., assistive technology, health and function, employment and vocational rehabilitation, independent living and community integration, education and transition activities, and engineering). The Plan can be accessed on the Internet at the following site: http://www.ed.gov/rschstat/research/pubs/index.html.

Individuals may qualify to be peer reviewers on the basis of education, training and professional expertise or some combination of personal and professional experience. Employees of the Federal government are not eligible to serve as peer reviewers for the SBIR grants program.

How Long Will Members of the Standing Review Panel Serve?

Generally, reviewers serve for three-year terms on the Standing Panels with one review per year.

How Can I Become a Standing Review Panel Member?

Individuals are nominated to serve as a standing review panel peer reviewer through self-nomination or nomination by another individual. If you are interested in participating as a reviewer, we request that you submit the following information to the program contact person listed under FOR FURTHER INFORMATION CONTACT.

1. A statement indicating an interest to serve on an SBIR standing review panel and the area(s) of expertise identified from the topic areas enumerated above as well as an indication of knowledge in the following: (1) Small Business Operations and Management; and (2) Product Design, Innovation, Evaluation and Commercialization.

2. Curriculum Vitae or resume detailing areas of expertise and experience.

If you nominate another individual, please contact that individual to determine if the prospective nominee is willing to serve and provide the same information as above.

Standing review panel nominees will be contacted by NIDRR by telephone or e-mail no later than June 15, 2005.

Electronic Access to This Document: You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: February 3, 2005.
John H. Hager,
Assistant Secretary for Special Education and Rehabilitative Services.

[FR Doc. E5-535 Filed 2-8-05; 8:45 am]

BILLING CODE 4000-01-P